DEPARTMENT OF STATE

[Public Notice 6732]

Waiver of Restriction on Assistance to the Central Government of Maldives

Pursuant to section 7088(c)(2) of the Department of State, Foreign Operations, and Related Programs Appropriations Act, 2009 (Division H, Pub. L. 111-8) (“the Act”), and Department of State Delegation of Authority Number 245-1, I hereby determine that it is important to the national interest of the United States to waive the requirements of section 7088(c)(1) of the Act with respect to the Government of the Republic of Maldives, and I hereby waive such restriction.

This determination shall be reported to the Congress, and published in the Federal Register.

Dated: July 29, 2009.
Jacob J. Lew,
Deputy Secretary of State for Management and Resources, Department of State.

[FR Doc. E9-19915 Filed 8-18-09; 8:45 am]

BILLING CODE 4710-26-P